NUCLEAR REGULATORY COMMISSION

[Docket No. 52-047; NRC-2016-0119]

Tennessee Valley Authority; Clinch River Nuclear Site

AGENCY: Nuclear Regulatory Commission.

ACTION: Early site permit application; receipt.

SUMMARY: The U.S. Nuclear Regulatory Commission (NRC) is giving notice once each week for four consecutive weeks for an application from Tennessee Valley Authority (TVA), for an early site permit (ESP) for the Clinch River Nuclear Site located in Oak Ridge, Tennessee.

DATES: The ESP application was received on May 12, 2016 and supplemented with Revision 2 on January 18, 2019.

ADDRESSES: Please refer to Docket ID NRC-2016-0119 when contacting the NRC about the availability of information regarding this document. You may obtain publicly-available information related to this document using any of the following methods:

• Federal Rulemaking website: Go to http://www.regulations.gov and search for Docket ID NRC-2016-0119. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. For the convenience of the reader, instructions about obtaining materials referenced in this document are provided in the “Availability of Documents” section of this document.

• NRC's PDR: You may examine and purchase copies of public documents at the NRC's PDR, Room O1-F21, One White Flint North, 11555 Rockville Pike, Rockville, Maryland 20852.

FOR FURTHER INFORMATION CONTACT: Mallecia Sutton, telephone: 301-415-0673, email: Mallecia.Sutton@nrc.gov or Allen Fetter, telephone: 301-415-8556, email: Allen.Fetter@nrc.gov. Both staff of the U.S. Nuclear Regulatory Commission, Washington, DC 20555-0001.

SUPPLEMENTARY INFORMATION:

I. Background

TVA (the applicant) has filed an application for an ESP for the Clinch River Nuclear Site located in Oak Ridge, Tennessee (ADAMS Accession No. ML16139A752), under Section 103 of the Atomic Energy Act of 1954, as amended, and part 52 of title 10 of the Code of Federal Regulations (10 CFR), “Licenses, Certifications, and Approvals for Nuclear Power Plants.” TVA filed Revision 2 of the application dated January 18, 2019 (ADAMS Accession No. ML19030A485). Through the application, which is currently under review by the NRC staff, the applicant seeks an ESP separate from the filing of an application for a construction permit (CP) or combined license (COL) for a nuclear power facility. The ESP process allows resolution of issues relating to siting. At any time during the period of an ESP (up to 20 years), the permit holder may reference the permit in an application for a CP or COL. The information submitted by the applicant includes certain administrative information, as well as technical information submitted pursuant to 10 CFR 52.24(a) and 10 CFR 51.105(a). These notices are being provided in accordance with the requirements in 10 CFR 50.43(a)(3).

II. Availability of Documents

The documents identified in the following table are available to interested persons through one or more of the following methods, as indicated.

Document | ADAMS accession No.
ESP application Cover Letter | ML19030A485
ESP application Administrative Information | ML18003A298
ESP application Site Safety Analysis Report | ML19030A358
ESP application Environmental Report | ML19030A478
ESP application Emergency Plan | ML18003A485
ESP application Exemptions and Departures | ML19030A479
ESP application Enclosures | ML19030A568

Dated at Rockville, Maryland, this 13th day of May, 2019.
For the Nuclear Regulatory Commission.
Jennivine K. Rankin,
Acting Chief, Licensing Branch 3, Division of New Reactor Licensing, Office of New Reactors.

[FR Doc. 2019-10127 Filed 5-16-19; 8:45 am]

BILLING CODE 7590-01-P